DEPARTMENT OF TRANSPORTATION

Office of the Secretary

Notice of Applications for Certificates of Public Convenience and Necessity and Foreign Air Carrier Permits Filed Under Subpart B (Formerly Subpart Q) During the Week Ending December 20, 2002.

The following applications for certificates of public convenience and necessity and foreign air carrier permits were filed under subpart B (formerly subpart Q) of the Department of Transportation's procedural regulations (see 14 CFR 301.201 et seq.). The due date for answers, conforming applications, or motions to modify scope are set forth below for each application. Following the answer period DOT may process the application by expedited procedures. Such procedures may consist of the adoption of a show-cause order, a tentative order, or in appropriate cases a final order without further proceedings.

Docket Number: OST-1996-1200.

Date Filed: December 19, 2002.

Due Date for Answers, Conforming Applications, or Motion to Modify Scope: January 9, 2003.

Description: Application of Continental Micronesia, Inc., pursuant to 49 U.S.C. section 41102 and subpart B, requesting renewal of its route 171 segment 15 authority to provide scheduled foreign air transportation of persons, property, and mail between Guam and Saipan, Commonwealth of the Northern Mariana Islands, on the one hand, and Niigata, Japan, on the other hand. Continental Micronesia also requests, renewal of the right to combine this authority with its authority in other markets to the extent permitted by applicable bilateral agreements.

Docket Number: OST-1996-1201.

Date Filed: December 19, 2002.

Due Date for Answers, Conforming Applications, or Motion to Modify Scope: January 9, 2003.

Description: Application of Continental Micronesia, Inc., pursuant to 49 U.S.C. section 41102 and subpart B, requesting renewal of its route 171 segment 16 authority to provide scheduled foreign air transportation of persons, property and mail between Guam and Saipan, Commonwealth of the Northern Mariana Islands, on the one hand, and Okayama, Japan, on the other hand. Continental Micronesia also requests, renewal of the right to combine this authority with its authority in other markets to the extent permitted by applicable bilateral agreements.

Docket Number: OST-1998-3435.

Date Filed: December 19, 2002.

Due Date for Answers, Conforming Applications, or Motion to Modify Scope: January 9, 2003.

Description: Application of Federal Express Corporation, pursuant to 49 U.S.C. section 41102 and subpart B, requesting renewal of segment 4 of its certificate of public convenience and necessity for route 205-F, authorizing FedEx Express to provide scheduled foreign air transportation of property and mail between points in the United States, on the one hand, and points in Japan, on the other hand, via intermediate points.

Docket Number: OST-1998-3441.

Date Filed: December 20, 2002.

Due Date for Answers, Conforming Applications, or Motion to Modify Scope: January 10, 2002.

Description: Application of Northwest Airlines, Inc., pursuant to 49 U.S.C. section 41102 and subpart B, requesting renewal of segment 4 of its route 129 certificate of public convenience and necessity, authorizing Northwest to provide scheduled foreign air transportation of persons, property, and mail between any point or points in the United States, via any intermediate point or points, and any point or points in Japan, and any point or points beyond Japan. Northwest also requests, that the Department integrate the requested certificate authority with Northwest's other certificate and exemption authority to the extent permissible under applicable law and the governing bilateral agreements.

Andrea M. Jenkins,
Federal Register Liaison.

[FR Doc. 02-33015 Filed 12-30-02; 8:45 am]

BILLING CODE 4910-62-P